DEPARTMENT OF AGRICULTURE

Rural Housing Service

Notice of Funding Availability (NOFA) for the Section 515 Rural Rental Housing Program for Fiscal Year 2005

AGENCY: Rural Housing Service (RHS), USDA.

ACTION: Notice.

SUMMARY: This NOFA announces the timeframe to submit applications for section 515 Rural Rental Housing (RRH) loan funds, including applications for the nonprofit set-aside for eligible nonprofit entities, the set-aside for the most Underserved Counties and Colonias (Cranston-Gonzalez National Affordable Housing Act), and the set-aside for Empowerment Zones and Enterprise Communities (EZ/ECs) and Rural Economic Area Partnership (REAP) zones. This document describes the methodology that will be used to distribute funds, the application process, submission requirements, and areas of special emphasis or consideration.

DATES: The deadline for receipt of all applications in response to this NOFA is 5 p.m., local time for each Rural Development State Office on May 13, 2005. The application closing deadline is firm as to date and hour. The Agency will not consider any application that is received after the closing deadline. Applicants intending to mail applications must provide sufficient time to permit delivery on or before the closing deadline date and time. Acceptance by the United States Postal Service or private mailer does not constitute delivery. Facsimile (FAX) and postage due applications will not be accepted.

ADDRESSES: Applicants wishing to apply for assistance must contact the Rural Development State office serving the place in which they desire to submit an application for rural rental housing to receive further information and copies of the application package. Rural Development will date and time stamp incoming applications to evidence timely receipt, and, upon request, will provide the applicant with a written acknowledgment of receipt. A listing of Rural Development State offices, their addresses, telephone numbers, and person to contact follows:

Note: Telephone numbers listed are not toll-free.

Alabama State Office

Suite 601, Sterling Centre

4121 Carmichael Road

Montgomery, AL 36106-3683

(334) 279-3455

TDD (334) 279-3495

James B. Harris

Alaska State Office

800 West Evergreen, Suite 201

Palmer, AK 99645

(907) 761-7740

TDD (907) 761-8905

Debbie Andrys

Arizona State Office

Phoenix Courthouse and Federal Building

230 North First Ave., Suite 206

Phoenix, AZ 85003-1706

(602) 280-8765

TDD (602) 280-8706

Johnna Vargas

Arkansas State Office

700 W. Capitol Ave., Room 3416

Little Rock, AR 72201-3225

(501) 301-3250

TDD (501) 301-3063

Greg Kemper

California State Office

430 G Street, #4169

Davis, CA 95616-4169

(530) 792-5830

TDD (530) 792-5848

Jeff Deiss

Colorado State Office

655 Parfet Street, Room E100

Lakewood, CO 80215

(720) 544-2923

TDD (800) 659-2656

Mary Summerfield

Connecticut

Served by Massachusetts State Office

Delaware and Maryland State Office

4607 South Dupont Highway

PO Box 400

Camden, DE 19934-9998

(302) 697-4353

TDD (302) 697-4303

Pat Baker

Florida & Virgin Islands State Office

4440 N.W. 25th Place

Gainesville, FL 32606-6563

(352) 338-3465

TDD (352) 338-3499

Elizabeth M. Whitaker

Georgia State Office

Stephens Federal Building

355 E. Hancock Avenue

Athens, GA 30601-2768

(706) 546-2164

TDD (706) 546-2034

Wayne Rogers

Hawaii State Office

(Services all Hawaii, American Samoa Guam, and Western Pacific)

Room 311, Federal Building

154 Waianuenue Avenue

Hilo, HI 96720

(808) 933-8305

TDD (808) 933-8321

Jack Mahan

Idaho State Office

Suite A1

9173 West Barnes Dr.

Boise, ID 83709

(208) 378-5630

TDD (208) 378-5644

LaDonn McElligott

Illinois State Office

2118 West Park Court, Suite A

Champaign, IL 61821-2986

(217) 403-6222

TDD (217) 403-6240

Barry L. Ramsey

Indiana State Office

5975 Lakeside Boulevard

Indianapolis, IN 46278

(317) 290-3100 (ext. 423)

TDD (317) 290-3343

John Young

Iowa State Office

210 Walnut Street Room 873

Des Moines, IA 50309

(515) 284-4666

TDD (515) 284-4858

Sue Wilhite

Kansas State Office

1303 SW First American Place, Suite 100

Topeka, KS 66604-4040

(785) 271-2721

TDD (785) 271-2767

Virginia M. Hammersmith

Kentucky State Office

771 Corporate Drive, Suite 200

Lexington, KY 40503

(859) 224-7325

TDD (859) 224-7422

Paul Higgins

Louisiana State Office

3727 Government Street

Alexandria, LA 71302

(318) 473-7962

TDD (318) 473-7655

Yvonne R. Emerson

Maine State Office

967 Illinois Ave., Suite 4

PO Box 405

Bangor, ME 04402-0405

(207) 990-9110

TDD (207) 942-7331

Bob Nadeau

Maryland

Served by Delaware State Office

Massachusetts, Connecticut, & Rhode Island State Office

451 West Street

Amherst, MA 01002

(413) 253-4333

TDD (413) 253-4590

Donald Colburn

Michigan State Office

3001 Coolidge Road, Suite 200

East Lansing, MI 48823

(517) 324-5192

TDD (517) 337-6795

Ghulam R. Simbal

Minnesota State Office

375 Jackson Street Building, Suite 410

St. Paul, MN 55101-1853

(651) 602-7782

TDD (651) 602-7830

Peter Lundquist

Mississippi State Office

Federal Building, Suite 831

100 W. Capitol Street

Jackson, MS 39269

(601) 965-4325

TDD (601) 965-5850

Darnella Smith-Murray

Missouri State Office

601 Business Loop 70 West

Parkade Center, Suite 235

Columbia, MO 65203

(573) 876-0990

TDD (573) 876-9480

Colleen James

Montana State Office

900 Technology Blvd. Suite B

Bozeman, MT 59715

(406) 585-2565

TDD (406) 585-2562

Deborah Chorlton

Nebraska State Office

Federal Building, Room 152

100 Centennial Mall N

Lincoln, NE 68508

(402) 437-5594

TDD (402) 437-5093

Phil Willnerd

Nevada State Office

1390 South Curry Street

Carson City, NV 89703-9910

(775) 887-1222 (ext. 25)

TDD (775) 885-0633

Angilla Denton

New Hampshire State Office

Concord Center

Suite 218, Box 317

10 Ferry Street

Concord, NH 03301-5004

(603) 223-6046

TDD (603) 229-0536

Jim Fowler

New Jersey State Office

5th Floor North Suite 500

8000 Midlantic Dr.

Mt. Laurel, NJ 08054

(856) 787-7740

TDD (856) 787-7784

George Hyatt, Jr.

New Mexico State Office

6200 Jefferson St., NE, Room 255

Albuquerque, NM 87109

(505) 761-4944

TDD (505) 761-4938

Carmen N. Lopez

New York State Office

The Galleries of Syracuse

441 S. Salina Street, Suite 357 5th Floor

Syracuse, NY 13202

(315) 477-6419

TDD (315) 477-6447

George N. Von Pless

North Carolina State Office

4405 Bland Road, Suite 260

Raleigh, NC 27609

(919) 873-2066

TDD (919) 873-2003

Terry Strole

North Dakota State Office

Federal Building, Room 208

220 East Rosser

PO Box 1737

Bismarck, ND 58502

(701) 530-2049

TDD (701) 530-2113

Kathy Lake

Ohio State Office

Federal Building, Room 507

200 North High Street

Columbus, OH 43215-2477

(614) 255-2418

TDD (614) 255-2554

Melodie Taylor-Ward

Oklahoma State Office

100 USDA, Suite 108

Stillwater, OK 74074-2654

(405) 742-1070

TDD (405) 742-1007

Ivan S. Graves

Oregon State Office

101 SW Main, Suite 1410

Portland, OR 97204-3222

(503) 414-3352

TDD (503) 414-3387

Margo Donelin

Pennsylvania State Office

One Credit Union Place, Suite 330

Harrisburg, PA 17110-2996

(717) 237-2281

TDD (717) 237-2261

Martha Eberhart

Puerto Rico State Office

654 Munoz Rivera Avenue

IBM Plaza, Suite 601

Hato Rey, PR 00918

(787) 766-5095 (ext. 249)

TDD (787) 766-5332

Lourdes Colon

Rhode Island

Served by Massachusetts State Office

South Carolina State Office

Strom Thurmond Federal Building

1835 Assembly Street, Room 1007

Columbia, SC 29201

(803) 253-3432

TDD (803) 765-5697

Larry D. Floyd

South Dakota State Office

Federal Building, Room 210

200 Fourth Street, SW

Huron, SD 57350

(605) 352-1132

TDD (605) 352-1147

Roger Hazuka or Pam Reilly

Tennessee State Office

Suite 300

3322 West End Avenue

Nashvile, TN 37203-1084

(615) 783-1375

TDD (615) 783-1397

Housing Program Director

Texas State Office

Federal Building, Suite 102

101 South Main

Temple, TX 76501

(254) 742-9758

TDD (254) 742-9712

Julie Hayes

Utah State Office

Wallace F. Bennett Federal Building

125 S. State Street, Room 4311

Salt Lake City, UT 84147-0350

(801) 524-4325

TDD (801) 524-3309

Janice Kocher

Vermont State Office

City Center, 3rd Floor

89 Main Street

Montpelier, VT 05602

(802) 828-6021

TDD (802) 223-6365

Heidi Setien

Virgin Islands

Served by Florida State Office

Virginia State Office

Culpeper Building, Suite 238

1606 Santa Rosa Road

Richmond, VA 23229

(804) 287-1596

TDD (804) 287-1753

CJ Michels

Washington State Office

1835 Black Lake Blvd., Suite B

Olympia, WA 98512

(360) 704-7730

TDD (360) 704-7760

Robert Lund

Western Pacific Territories

Served by Hawaii State Office

West Virginia State Office

Federal Building

75 High Street, Room 320

Morgantown, WV 26505-7500

(304) 284-4889

TDD (304) 284-4836

Craig St. Clair

Wisconsin State Office

4949 Kirschling Court

Stevens Point, WI 54481

(715) 345-7615 (ext. 151)

TDD (715) 345-7614

Peter Kohnen

Wyoming State Office

PO Box 11005

Casper, WY 82602

(307) 233-6715

TDD (307) 233-6733

Jack Hyde

FOR FURTHER INFORMATION CONTACT: For general information, applicants may contact Barbara Chism, Senior Loan Officer, Multi-Family Housing Processing Division, Rural Housing Service, United States Department of Agriculture, Stop 0781, 1400 Independence Avenue, SW., Washington, DC, 20250, telephone (202) 690-1436 (voice) (this is not a toll free number) or (800) 877-8339 (TDD-Federal Information Relay Service).

SUPPLEMENTARY INFORMATION:

Programs Affected

The Rural Rental Housing program is listed in the Catalog of Federal Domestic Assistance under Number 10.415, Rural Rental Housing Loans. Rental Assistance is listed in the Catalog under Number 10.427, Rural Rental Assistance Payments.

Discussion of Notice

I. Authority and Distribution Methodology

A. Authority

Section 515 of the Housing Act of 1949 (42 U.S.C. 1485) provides RHS with the authority to make loans to any individual, corporation, association, trust, Indian tribe, public or private nonprofit organization, consumer cooperative, or partnership to provide rental or cooperative housing and related facilities in rural areas for very-low, low, or moderate income persons or families, including elderly persons and persons with disabilities. Rental assistance (RA) is a tenant subsidy for very-low and low-income families residing in rural rental housing facilities with RHS financing and, when available, may be requested with applications for such facilities.

B. Distribution Methodology

The total amount available for Fiscal Year (FY) 2005 for section 515 is $99,200,000, of which $25,792,000 is available for new construction as follows:

Section 515 new construction funds | $5,904,000
Set-aside for nonprofits | 8,928,000
Set-aside for Underserved Counties and Colonias | 4,960,000
Set-aside for EZ, EC, and REAP Zones | 5,000,000
State Rental Assistance (RA) Designated reserve | 1,000,000

C. Section 515 New Construction Funds

For FY 2005, the Administrator has determined that it would not be practical to allocate funds to States because of funding limitations; therefore, section 515 new construction funds will be distributed to States based on a National competition, as follows:

1. States will accept, review, score, and rank requests in accordance with 7 CFR 3560.56. The scoring factors are:

(a) The presence and extent of leveraged assistance for the units that will serve RHS income-eligible tenants at basic rents comparable to those if RHS provided full financing, computed as a percentage of the RHS total development cost (TDC). Loan proposals that include secondary funds from other sources that have been requested but have not yet been committed will be processed as follows: the proposal will be scored based on the requested funds, provided (1) the applicant includes evidence of a filed application for the funds; and (2) the funding date of the requested funds will permit processing of the loan request in the current funding cycle, or, if the applicant does not receive the requested funds, will permit processing of the next highest ranked proposal in the current year. Points will be awarded in accordance with the following table. (0 to 20 points)

Percentage of leveraging | Points
75 or more | 20
70-74 | 19
65-69 | 18
60-64 | 17
55-59 | 16
50-54 | 15
45-49 | 14
40-44 | 13
35-39 | 12
30-34 | 11
25-29 | 10
20-24 | 9
15-19 | 8
10-14 | 7
5-9 | 6
0-4 | 0

(b) The units to be developed are in a colonia, tribal land, EZ, EC, or REAP zone, or in a place identified in the State Consolidated Plan or State Needs Assessment as a high need community for multifamily housing. (20 points)

(c) In states where RHS has an on-going formal working relationship, agreement, or Memorandum of Understanding (MOU) with the State to provide State resources (State funds, State RA, HOME funds, Community Development Block Grant (CDBG) funds, or Low-Income Housing Tax Credits (LIHTC)) for RHS proposals; or where the State provides preference or points to RHS proposals in awarding such State resources, 20 points will be provided to loan requests that include such State resources in an amount equal to at least 5 percent of the TDC. Native American Housing and Self Determination Act (NAHASDA) funds may be considered a State Resource if the Tribal Plan for NAHASDA funds contains provisions for partnering with RHS for multifamily housing. (National Office initiative)

(d) The loan request includes donated land meeting the provisions of 7 CFR 3560.56(c)(1)(iv). (5 points)

2. The National Office will rank all requests nationwide and distribute funds to States in rank order, within funding limits. If insufficient funds remain for the next ranked proposal, the Agency will select the next ranked proposal that falls within the remaining levels. Point score ties will be handled in accordance with 7 CFR 3560.56(c)(2).

D. Applications That Do Not Require New Construction RA

For FY 2005, new construction RA will be available in limited amounts. Therefore, the Agency is inviting applications to develop units in markets that do not require RA. The market study for proposals must clearly demonstrate a need and demand for the units by prospective tenants at income levels that can support the proposed rents without tenant subsidies. The proposed units must offer amenities that are typical for the market area at rents that are comparable to conventional rents in the market for similar units.

E. Set-Asides

Loan requests will be accepted for the following set-asides:

1. Nonprofit set-aside. An amount of $8,928,000 has been set aside for nonprofit applicants. All loan proposals must be in designated places in accordance with 7 CFR 3560.57. A State or jurisdiction may receive one proposal from this set-aside, which cannot exceed $1 million. A State could get additional funds from this set-aside if any funds remain after funding one proposal from each participating State. If there are insufficient funds to fund one loan request from each participating State, selection will be made by point score. If there are any funds remaining, they will be handled in accordance with 42 U.S.C. 1485(w)(3). Funds from this set-aside will be available only to nonprofit entities, which may include a partnership that has as its general partner a nonprofit entity or the nonprofit entity's for-profit subsidiary which will be receiving low-income housing tax credits authorized under section 42 of the Internal Revenue Code of 1986. To be eligible for this set-aside, the nonprofit entity must be an organization that:

(a) Will own an interest in the project to be financed and will materially participate in the development and the operations of the project;

(b) Is a private organization that has nonprofit, tax exempt status under section 501(c)(3) or section 501(c)(4) of the Internal Revenue Code of 1986;

(c) Has among its purposes the planning, development, or management of low-income housing or community development projects; and

(d) Is not affiliated with or controlled by a for-profit organization.

2. Underserved counties and colonias set-aside. An amount of $4,960,000 has been set aside for loan requests to develop units in the 100 most needy underserved counties or colonias as defined in section 509(f) of the Housing Act of 1949.

3. EZ, EC, and REAP set-aside. An amount of $5,000,000 has been set aside to develop units in EZ, EC, or REAP zone. Loan requests that are eligible for this set-aside are also eligible for regular section 515 funds. If requests for this set-aside exceed available funds, selection will be made in accordance with 7 CFR 3560.56(c).

II. Funding Limits

A. Individual loan requests may not exceed $1 million. This applies to regular section 515 funds and set-aside funds. The Administrator may make an exception to this limit in cases where a State's average total development costs exceed the National average by 50 percent or more.

B. No State may receive more than $2.5 million, including set-aside funds.

III. Rental Assistance (RA)

In addition to the State Matching RA program as described in Section VI. E. of this Notice and subject to its availability, new construction RA will be held in the National Office for use with section 515 Rural Rental Housing loans. Because the amount of RA available for new construction is minimal, RA will be granted to projects which best meet the scoring and ranking criteria at 7 CFR 3560.56(c). In addition, preferential consideration for RA will be given to projects: (1) where a subsidy for rent is provided from within the state jurisdiction; and (2) where the least amount of RA is needed to make the project feasible, calculated as a percentage. New construction RA may not be used in conjunction with a transfer or subsequent loan for repairs or rehabilitation, preservation purposes or for inventory property sales.

IV. Application Process

All applications for section 515 new construction funds must be filed with the appropriate Rural Development State office and must meet the requirements of 7 CFR 3560.56 and Section V. of this Notice. Incomplete applications will not be reviewed and will be returned to the applicant. No application will be accepted after 5 p.m., local time, on the application deadline previously mentioned unless that date and time is extended by a Notice published in the Federal Register.

V. Application Submission Requirements

A. Each application shall include all of the information, materials, forms and exhibits required by 7 CFR 3560, subpart B as well as comply with the provisions of this Notice. Applicants are encouraged, but not required, to include a checklist and to have their applications indexed and tabbed to facilitate the review process. The Rural Development State Office will base its determination of completeness of the application and the eligibility of each applicant on the information provided in the application.

B. Applicants are advised to contact the Rural Development State Office serving the place in which they desire to submit an application for the following:

1. Application information; and

2. List of designated places for which applications for new section 515 facilities may be submitted.

VI. Areas of Special Emphasis or Consideration

A. The RHS encourages the use of funding from other sources in conjunction with Agency loans. This year there will be a National Office Initiative pursuant to 7 CFR 3560.56(c)(1)(iii), whereby preference points will be awarded to loan requests that meet the selection criteria as follows: In states where RHS has an on-going formal working relationship, agreement, or MOU with the State to provide State resources (State funds, State RA, HOME funds, CDBG funds, or LIHTC) for RHS proposals; or where the State provides preference or points to RHS proposals in awarding these State Resources, 20 points will be provided to loan requests that include such State resources in an amount equal to at least 5 percent of the TDC. NAHASDA funds may be considered a State Resource if the Tribal Plan for NAHASDA funds contains provisions for partnering with RHS for multifamily housing.

B. $8,928,000 is available nationwide in a set-aside for eligible nonprofit organizations as defined in 42 U.S.C. 1485(w).

C. $4,960,000 is available nationwide in a set-aside for the 100 most Underserved Counties and Colonias.

D. $5,000,000 is available nationwide in a set-aside for EZ, EC, and REAP zone.

E. $1,000,000 is available nationwide in a reserve for States with viable State RA programs. In order to participate, States are to submit specific written information about the State RA program, i.e., a memorandum of understanding, documentation from the provider, etc., to the National Office.

Dated: March 3, 2005.
Russell T. Davis,
Administrator, Rural Housing Service.

[FR Doc. 05-4773 Filed 3-11-05; 8:45 am]

BILLING CODE 3410-XV-P